DEPARTMENT OF THE TREASURY

Internal Revenue Service

26 CFR Part 1

[REG-107722-00]

RIN 1545-AY22

Corporate Estimated Tax; Correction

AGENCY: Internal Revenue Service (IRS), Treasury.

ACTION: Correction to notice of public hearing cancellation on proposed rulemaking.

SUMMARY: This document contains a correction to a cancellation of public hearing notice which was published in the Federal Register on Friday, March 3, 2006 (71 FR 10940) relating to corporate estimated taxes.

FOR FURTHER INFORMATION CONTACT: Pamela Fuller, (202) 622-4910 (not a toll-free number).

SUPPLEMENTARY INFORMATION:

Background

The proposed regulation that is the subject of this correction is under sections 6425 and 6655 of the Internal Revenue Code.

Need for Correction

As published, the proposed regulation (REG-107722-00) contains an error that may prove to be misleading and is in need of clarification.

Correction of Publication

Accordingly, the publication of the cancellation of notice of public hearing on proposed rulemaking (REG-107722-00), which was the subject of FR Doc. E6-3062, is corrected as follows:

On page 10940, column 1, in the preamble under the section caption SUMMARY, the paragraph is corrected to read as follows:

SUMMARY: The public hearing cancellation notice published in the Federal Register on Friday, March 3, 2006 (71 FR 10940) cancelled only the public hearing and does not withdraw the proposed regulations (REG-107722-00), published in the Federal Register on Monday, December 12, 2005 (70 FR 73393), as the hearing cancellation notice indicated.

LaNita VanDyke,
Federal Register Liaison Officer, Legal Processing Division, Associate Chief Counsel (Procedure and Administration).

[FR Doc. E6-3848 Filed 3-16-06; 8:45 am]

BILLING CODE 4830-01-P